DEPARTMENT OF ENERGY

Federal Energy Regulatory Commission

[Docket No. AD02-6-000]

Conference on Energy Infrastructure; Notice of Conference

December 11, 2001.

The Federal Energy Regulatory Commission (FERC) will hold a conference on energy infrastructure issues in the northeastern states on Thursday, January 31, 2002 at the Helmsley Park Lane Hotel, 36 Central Park South, New York City, New York.

The conference will discuss the adequacy of the electric, gas and hydropower infrastructure in the Northeast, and related matters. The Governors of the northeastern states have been invited to participate. The goal is to identify present infrastructure needs, investment and other barriers to expansion, and environmental and landowner concerns. We look forward to an informative discussion of the issues to clarify how we can facilitate and enhance a comprehensive collaborative approach to energy infrastructure development and reliability for the northeastern states. It is our firm belief that an adequate, well-functioning energy infrastructure is a keystone of workable, competitive energy markets.

The one-day meeting will begin at 9 a.m. and conclude at 4 p.m. All interested parties are invited to attend. Hotel rooms have been blocked at the Helmsley Park Lane under the name of the Federal Energy Regulatory Commission for any attending guests to reserve a one- or two-night stay but will be released by January 9, 2002 (212-371-4000).

We will issue further details on the conference, including the agenda and a list of participants, as plans evolve. For additional information, please contact Carol Connors at 202-208-0870 or carol.connors@ferc.fed.us.

Linwood A. Watson, Jr.,
Acting Secretary.

[FR Doc. 01-31060 Filed 12-17-01; 8:45 am]

BILLING CODE 6717-01-P